DEPARTMENT OF COMMERCE

National Oceanic and Atmospheric Administration

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) will hold a public information meeting to gather input on the likely impacts of alternative spiny dogfish trip limits.

DATES: The meeting will be held Thursday, April 7, 2016, from 7 p.m. to 8:30 p.m.

ADDRESSES: The meeting will be held via webinar with a telephone-only connection option.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the proposed agenda, webinar access, and briefing materials.

SUPPLEMENTARY INFORMATION: For 2016-18 specifications, the Mid-Atlantic and New England Fishery Management Councils took no action on the spiny dogfish trip limit, which would maintain the current 5,000 pound trip limit. The Atlantic States Marine Fisheries Commission (ASMFC) has requested that the trip limit be increased to 6,000 pounds (http://www.mafmc.org/s/2016_Spiny-Dogfish-to-GARFO_trip-limits-REB-edits_AH-2.pdf), and this webinar-based meeting will gather public input on the potential impacts of changing the spiny dogfish trip limit.

Special Accommodations

The meeting is physically accessible to people with disabilities. Requests for sign language interpretation or other auxiliary aid should be directed to M. Jan Saunders, (302) 526-5251, at least 5 days prior to the meeting date.

Dated: March 17, 2016.
Tracey L. Thompson,
Acting Deputy Director, Office of Sustainable Fisheries, National Marine Fisheries Service.

[FR Doc. 2016-06389 Filed 3-21-16; 8:45 am]

BILLING CODE 3510-22-P